DEPARTMENT OF THE INTERIOR

Bureau of Land Management

[AZ-410-06-1220-AL]

Emergency Closure of Public Lands: Graham County, AZ

AGENCY: Bureau of Land Management, Interior.

ACTION: Notice of Emergency Closure.

SUMMARY: Notice is hereby given that certain public lands in Graham County, Arizona are temporarily closed to public use.

This Closure Order restricts all public use on a year-round basis on public lands administered by the BLM Safford Field Office in the Watson Wash area. This Order is issued under the authority of 43 CFR 8364.1 and affects the following public lands: Gila and Salt River Meridian, Arizona, T. 6 S., R.25 E., Sec. 14, S½, SW¼: Sec. 15, S½ SE¼; Sec. 22, E½ NE¼; Sec. 23, NW¼.

The affected lands contain conditions that compromised public health and safety due to illegal activities at the site that included murder, assaults, fights, disorderly conduct, drugs, under-age drinking, weapon offenses, motor vehicle accidents, vandalism, and littering. Public health and safety hazards have increased substantially and are expected to continue to do so unless immediate management action is taken. The restriction prohibiting public entry and use will help to mitigate public health and safety threats. The BLM's immediate removal of an unauthorized hot tub, which was an attractive nuisance, will reduce the area's appeal as a party spot.

DATES: This temporary closure will be effective the date this notice is published in the Federal Register and will remain in effect until rescinded or modified by the Authorized Officer.

FOR FURTHER INFORMATION CONTACT: Bill Brandau, Safford Field Manager, BLM, Safford Field Office, 711 14th Avenue, Safford, AZ 85546, (928) 348-4461.

Discussion of the Rules: Pursuant to 43 CFR 8364.1 the following is prohibited on lands administered by BLM within the Watson Wash Area:

1. Unless otherwise authorized, no person shall enter or remain in the closed area.

2. Persons who are exempt from the restriction include:

a. Any Federal, State or local officer or member of an organized firefighting force in the performance of an official duty.

b. BLM employees engaged in official duties, and

c. Persons specifically authorized by the BLM to enter the restricted area.

Penalties: Violation of this Order is punishable by a fine of not more than $1,000, and/or imprisonment of not more than 12 months (43 CFR 8364.1(d)).

Marlo M. Draper,
Acting Safford Field Office Manager.

[FR Doc. E6-16698 Filed 10-10-06; 8:45 am]

BILLING CODE 4310-32-P